DEPARTMENT OF AGRICULTURE

Forest Service

Olympic National Forest, Jefferson County, WA; Dosewallips Road Washout Project

AGENCY: Forest Service, USDA.

ACTION: Revised Notice of intent to prepare an environmental impact statement.

SUMMARY: On August 12, 2005, the USDA Forest Service (FS), Olympic National Forest (ONF), published a Notice of Intent in the Federal Register (70 FR 47171) to prepare an environmental impact statement (EIS) for the Dosewallips Road Washout Project. A revised Notice of Intent was published on August 26, 2005 in Federal Register (70 FR 50297). The FS and Western Federal Lands Highway Division (WFLHD) of the Federal Highway Administration (FHWA) further revise this Notice of Intent as follows. Except for the sections noted, all prior information remains the same.

DATES: The draft EIS is expected to be released in July 2007, and the final EIS is expected to be released in May 2008.

SUPPLEMENTARY INFORMATION:

Proposed Action

The original proposed action to restore and rebuild the washed out section of Forest Service Road (FSR) 2610 using a low-water crossing has been dropped from further consideration. Instead, the ONF and WFLHD proposed to reestablish road access previously provided by FSR 2610 to ONF and Olympic National Park (ONP) recreational facilities by rerouting the road above its former location along the hill-slope above and to the north of the washout. Approximately 0.8 mile of single-lane road with turnouts would be constructed using standard construction methods. Furthermore, the ONP and WFLHD propose to repair the damage to ONP's Dosewallips Road in the vicinity of Dosewallips River Falls, about 0.85 mile from the ONF/ONP boundary. This proposed action also includes a proposal to amend the Forest Plan only for the proposed repair on FSR 2610.

Possible Alternatives

The potential alternatives have changed since the last Notice of Intent for this proposed action was published. In addition to the proposed action, the possible alternatives to restore access along the damaged section of FSR 2610 are: No action; reroute to restore access to cars, recreational vehicles, and trailers upslope of the damage with an emphasis to minimize the footprint of the road and thereby the resource impacts; and a bridge or causeway to restore access to cars, recreational vehicles and trailers. As in the case of the Proposed Action, the reroute alternative that would minimize the road footprint and impacts also includes proposals to amend the Forest Plan for the repair needed on FSR 2610. Any proposed amendments to the Forest Plan will be identified and analyzed in the EIS. Under all the action alternatives, the ONP proposes to repair the Dosewallips Road near the Dosewallips Falls.

Lead and Cooperative Agencies

The ONF (FS) and WFLHD (FHWA) will be co-lead agencies in preparation and completion of the EIS. The ONP (NPS) will be a cooperating agency in the completion of the EIS.

Responsible Official

Mr. Dale Hom, Forest Supervisor, will be th Responsible Official for the decisions of the FS. Mr. Hom's contact information is Olympic National Forest, 1835 Black Lake Blvd., SW., Suite A, Olympia, WA 98512. Ms. Clara Conner, Division Engineer, will be the Responsible Official for the decisions of FHWA. Ms. Conner's contact information is Western Federal Lands Highway Division, 610 East Fifth St., Vancouver, WA 98661. Mr. Jonathon B. Jarvis, Regional Director of the NPS Pacific West Region, will be the Responsible Official for the decisions of the NPS. However, Mr. William G. Laitner, Park Superintendent, will be the implementing official for the NPS. Mr. Laitner;s contact information is Olympic National Park, 600 East Park Ave., Port Angeles, WA 98362.

FOR FURTHER INFORMATION CONTACT: Tim Davis, Project Leader, ONF, 1835 Black Lake Blvd., SW., Suite A, Olympia, Washington 98512; phone (360) 956-2375; or e-mail tedavis@fs.fed.us.

Dated: May 2, 2007.
Dale Hom,
Forest Supervisor, Olympic National Forest.

[FR Doc. 07-2333 Filed 5-10-07; 8:45 am]

BILLING CODE 3410-11-M